DEPARTMENT OF ENERGY

Federal Energy Regulatory Commission

Sunshine Act Meeting

July 3, 2001.

The following Notice of Meeting is published pursuant to section 3(a) of the Government in the Sunshine Act (Pub. L. No. 94-409), 5 U.S.C 552B:

Agency Holding Meeting: Federal Energy Regulatory Commission.

Date and Time: July 11, 2001, 10:00 A.M.

Place: Room 2C, 888 First Street, NE., Washington, DC 20426.

Status: Open.

Matters to be Considered: Agenda.

Note—Items listed on the agenda may be deleted without further notice.

Contact Person for More Information: David P. Boergers, Secretary, Telephone (202) 208-0400, for a recording listing items stricken from or added to the meeting, call (202) 208-1627.

This is a list of matters to be considered by the Commission. It does not include a listing of all papers relevant to the items on the agenda; however, all public documents may be examined in the reference and information center.

771st—Meeting July 11, 2001, Regular Meeting, 10:00 a.m.

Consent Agenda—Markets, Tariffs and Rates—Electric

CAE-1.

Docket# ER01-2032, 000, Central Maine Power Company

Other#s ER01-2130, 000, Central Maine Power Company

CAE-2.

Docket# ER01-2055, 000, Arizona Public Service Company

CAE-3.

Docket# ER01-2081, 000, Allegheny Energy Supply Company, LLC

Other#s ER00-2998, 001, Southern Company Services, Inc.; ER00-2999, 001, Southern Company Services, Inc.; ER00-3000, 001, Southern Company Services, Inc.; ER00-3001, 001, Southern Company Services, Inc.

CAE-4.

Docket# ER01-1676, 000, FPL Energy MH 50, L.P.

Other#s ER01-1676, 001, FPL Energy MH 50, L.P.

CAE-5.

Docket# ER01-2086, 000, San Manuel Power Company, LLC

CAE-6.

Docket# ER01-2092, 000, Allegheny Energy Supply Lincoln Generating Facility, LLC

Other#s ER00-2998, 001, Southern Company Services, Inc.; ER00-2999, 001, Southern Company Services, Inc.; ER00-3001, 001, Southern Company Services, Inc.

CAE-7.

Docket# ER01-2141, 000, Riverside Canal Power Company

Other#s ER01-2100, 000, Delano Energy Company, Inc.; ER01-2112, 000, Mountainview Power Company

CAE-8.

Docket# ER01-2097, 000, Portland General Electric Company

Other#s ER01-2103, 000, Enron Power Marketing, Inc.

CAE-9.

Omitted

CAE-10.

Docket# ER01-2195, 000, Mid-Continent Area Power Pool

CAE-11.

Omitted

CAE-12.

Omitted

CAE-13.

Docket# RT01-74, 002, Carolina Power & Light Company

Other#s RT01-74, 003, Carolina Power & Light Company

CAE-14.

Docket # RT01-88, 000, Alliance Companies, Ameren Corporation on behalf of: Union Electric Company and Central Illinois Public Service Company, American Electric Power Service Corporation on behalf of: Appalachian Power Company, Columbus Southern Power Company, Indiana Michigan Power Company, Kentucky Power Company, Kingsport Power Company, Ohio Power Company and Wheeling Power Company, Consumers Energy and Michigan Electric Transmission Company, Exelon Corporation on behalf of: Commonwealth Edison Company and Commonwealth Edison Company of Indiana, Inc., FirstEnergy Corp. on behalf of: American Transmission Systems, Inc., the Cleveland Electric Illuminating Company, Ohio Edison Company, Pennsylvania Power Company, Toledo Edison Company, the Detroit Edison Company, International Transmission Company and Virginia Electric and Power Company

Other#s EC99-80, 009, Alliance Companies, Ameren Corporation on behalf of: Union Electric Company and Central Illinois Public Service Company, American Electric Power Service Corporation on behalf of: Appalachian Power Company, Columbus Southern Power Company, Indiana Michigan Power Company, Kentucky Power Company, Kingsport Power Company, Ohio Power Company and Wheeling Power Company, Consumers Energy and Michigan Electric Transmission Company, Exelon Corporation on behalf of: Commonwealth Edison Company and Commonwealth Edison Company of Indiana, Inc., FirstEnergy Corp. on behalf of: American Transmission Systems, Inc., the Cleveland Electric Illuminating Company, Ohio Edison Company, Pennsylvania Power Company, and Toledo Edison Company, the Detroit Edison Company, International Transmission Company and Virginia Electric and Power Company;

EC99-80, 011, Alliance Companies, Ameren Corporation on behalf of: Union Electric Company and Central Illinois Public Service Company, American Electric Power Service Corporation on behalf of: Appalachian Power Company, Columbus Southern Power Company, Indiana Michigan Power Company, Kentucky Power Company, Kingsport Power Company, Ohio Power Company and Wheeling Power Company, Consumers Energy and Michigan Electric Transmission Company, Exelon Corporation on behalf of: Commonwealth Edison Company and Commonwealth Edison Company of Indiana, Inc., FirstEnergy Corp. on behalf of: American Transmission Systems, Inc., the Cleveland Electric Illuminating Company, Ohio Edison Company, Pennsylvania Power Company, Toledo Edison Company, the Detroit Edison Company, International Transmission Company and Virginia Electric and Power Company;

ER99-3144, 009, Alliance Companies, Ameren Corporation on behalf of: Union Electric Company and Central Illinois Public Service Company, American Electric Power Service Corporation on behalf of: Appalachian Power Company, Columbus Southern Power Company, Indiana Michigan Power Company, Kentucky Power Company, Kingsport Power Company, Ohio Power Company and Wheeling Power Company, Consumers Energy and Michigan Electric Transmission Company, Exelon Corporation on behalf of: Commonwealth Edison Company and Commonwealth Edison Company of Indiana, Inc., FirstEnergy Corp. on behalf of: American Transmission Systems, Inc., the Cleveland Electric Illuminating Company, Ohio Edison Company, Pennsylvania Power Company, Toledo Edison Company, the Detroit Edison Company, International Transmission Company and Virginia Electric and Power Company;

ER99-3144, 011, Alliance Companies, Ameren Corporation on behalf of: Union Electric Company and Central Illinois Public Service Company, American Electric Power Service Corporation on behalf of: Appalachian Power Company, Columbus Southern Power Company, Indiana Michigan Power Company, Kentucky Power Company, Kingsport Power Company, Ohio Power Company and Wheeling Power Company, Consumers Energy and Michigan Electric Transmission Company, Exelon Corporation on behalf of: Commonwealth Edison Company and Commonwealth Edison Company of Indiana, Inc., FirstEnergy Corp. on behalf of: American Transmission Systems, Inc., the Cleveland Electric Illuminating Company, Ohio Edison Company, Pennsylvania Power Company, Toledo Edison Company, the Detroit Edison Company, International Transmission Company and Virginia Electric and Power Company;

RT01-88, 001, Alliance Companies, Ameren Corporation on behalf of: Union Electric Company and Central Illinois Public Service Company, American Electric Power Service Corporation on behalf of: Appalachian Power Company, Columbus Southern Power Company, Indiana Michigan Power Company, Kentucky Power Company, Kingsport Power Company, Ohio Power Company and Wheeling Power Company, Consumers Energy and Michigan Electric Transmission Company, Exelon Corporation on behalf of: Commonwealth Edison Company and Commonwealth Edison Company of Indiana, Inc., FirstEnergy Corp. on behalf of: American Transmission Systems, Inc., the Cleveland Electric Illuminating Company, Ohio Edison Company, Pennsylvania Power Company, Toledo Edison Company, the Detroit Edison Company, International Transmission Company and Virginia Electric and Power Company;

RT01-88, 003, Alliance Companies, Ameren Corporation on behalf of: Union Electric Company and Central Illinois Public Service Company, American Electric Power Service Corporation on behalf of: Appalachian Power Company, Columbus Southern Power Company, Indiana Michigan Power Company, Kentucky Power Company, Kingsport Power Company, Ohio Power Company and Wheeling Power Company, Consumers Energy and Michigan Electric Transmission Company, Exelon Corporation on behalf of: Commonwealth Edison Company and Commonwealth Edison Company of Indiana, Inc., FirstEnergy Corp. on behalf of: American Transmission Systems, Inc., the Cleveland Electric Illuminating Company, Ohio Edison Company, Pennsylvania Power Company, Toledo Edison Company, the Detroit Edison Company, International Transmission Company and Virginia Electric and Power Company

RT01-84, 000, Illinois Power Company;

RT01-26, 000, Northern Indiana Public Service Company;

RT01-37, 000, The Dayton Power and Light Company

CAE-15.

Docket# ER01-2090, 000, American Electric Power

CAE-16.

Docket# ER01-2122, 000, Ameren Services Company

Other#s ER01-2123, 000, Ameren Services Company

CAE-17.

Docket# RT01-34, 000, Southwest Power Pool, Inc.

Other#s RT01-34, 002, Southwest Power Pool, Inc.; RT01-75, 000, Entergy Services, Inc.; RT01-75, 003, Entergy Services, Inc.; EC01-94, 000, American Electric Power Service Corporation; EC01-100, 000, Oklahoma Gas and Electric Company; EC01-103, 000, Western Resources, Inc.; and Kansas Gas; and Electric Company; EC01-106, 000, Midwest Energy, Inc.; EC01-108, 000, Kansas City Power & Light Company; EC01-109, 000, The Empire District Electric Company; EC01-111, 000, Southwestern Public Service Company; EC01-113, 000, Cleco Power LLC

CAE-18.

Docket# ER00-3591, 007, New York Independent System Operator, Inc.

Other#s EL00-70, 005, New York State Electric and Gas Corporation v. New York Independent System Operator, Inc.; ER00-1969, 003, New York Independent System Operator, Inc.; ER00-3038, 004, New York Independent System Operator, Inc.

>CAE-19.

Docket# ER97-1523, 040, New York Independent System Operator, Inc.

Other#s OA97-470, 038, New York Independent System Operator, Inc.; ER97-4234, 036, New York Independent System Operator, Inc.

CAE-20.

Docket# QF90-176, 003, Vineland Cogeneration Limited Partnership

CAE-21.

Docket# EF00-5092, 000, United States Department of Energy—Western Area Power Administration

CAE-22.

Docket# ER01-1527, 003, Sierra Pacific Power Company

Other#s ER01-1529, 003, Nevada Power Company

CAE-23.

Docket# EL01-47, 005, Removing Obstacles to Increased Electric Generation and Natural Gas Supply in the Western United States

CAE-24.

Omitted

CAE-25.

Docket# EL01-45, 001, Consolidated Edison Company of New York

Other#s ER01-1385, 001, Consolidated Edison Company of New York

CAE-26.

Omitted

CAE-27.

Docket# ER99-230, 001, Alliant Services Company

CAE-28.

Docket# EF98-3011, 001, United States Department of Energy—Southestern Power Administration

CAE-29.

Docket# EL98-52, 004, North American Electric Reliability Council

Other#s ER99-1986, 002, North American Electric Reliability Council; ER99-2000, 002, North American Electric Reliability Council

CAE-30.

Docket# ER99-3084, 001, Energy Services, Inc.

Other#s ER99-3093, 001, Energy Services, Inc.; ER99-3133, 001, Energy Services, Inc.; ER99-3175, 001, Energy Services, Inc.; ER99-3176, 001, Energy Services, Inc.; ER99-3188, 001, Energy Services, Inc.; ER99-3252, 001, Energy Services, Inc.; ER99-3302, 001, Energy Services, Inc.; ER99-3315, 001, Energy Services, Inc.

CAE-31.

Docket# ER00-3577, 002, New England Power Pool

Other#s ER00-3577, 003, New England Power Pool

CAE-32.

Docket# EC00-63, 001, Sierra Pacific Power Company, Nevada Power Company and Portland General Electric Company

Other#s ER00-1801, 001, Sierra Pacific Power Company, Nevada Power Company and Portland General Electric Company

CAE-33.

Docket# EL00-95, 038, San Diego Gas & Electric Company v. Sellers of Energy and Ancillary Services Into Markets Operated by the California Independent System Operator and the California Power Exchange

Other#s EL00-98, 036, Investigation of Practices of California Independent System Operator and the California Power Exchange

CAE-34.

Docket# RT01-35, 001, Avista Corporation, Bonneville Power Administration, Idaho Power Company, Montana Power Company, Nevada Power Company, Pacificorp, Portland General Electric Company, Puget Sound Energy, Inc.; and Sierra Pacific Power Company

Other#s RT01-15, 001, Avista Corporation, Montana Power Company, Nevada Power Company, Portland General Electric Company, Puget Sound Energy, Inc.; and Sierra Pacific Power Company

CAE-35.

Omitted

CAE-36.

Docket# ER00-565, 002, Pacific Gas & Electric Company

CAE-37.

Docket# EL01-60, 001, Public Utility District of Texas

CAE-38.

Docket# EL01-19, 000, H.Q. Energy Services (U.S.) Inc. v. New York Independent System Operator, Inc.

CAE-39.

Docket# EL01-46, 000, Axia Energy, L.P. v. Southwest Power Pool, Inc.

CAE-40.

Docket# EL01-78, 000, LG&E Energy Marketing, Inc. v. Southern Company Services, Inc.; and Georgia Transmission Corporation

CAE-41.

Docket# EL01-42, 000, Universal Studios, Inc. v. Southern California Edison

CAE-42.

Docket# EL01-12, 000, Gregory 7 Beverly Swecker v. Midland Power Cooperative

CAE-43.

Omitted

CAE-44.

Omitted

CAE-45.

Docket# ER00-1387, 000, Ameren Services Company

Other#s ER00-2364, 000, Ameren Services Company

CAE-46.

Docket# EL00-99, 000, Maine Public Utilities Commission, United Illuminating Company and Bangor Hydro-Electric Company v. Iso New England, Inc.

Other#s EL00-100, 000, Maine Public Utilities Commission, United Illuminating Company and Bangor Hydro-Electric Company v. Iso New England, Inc.; EL00-112, 000, Maine Public Utilities Commission, United Illuminating Company and Bangor Hydro-Electric Company v. Iso New England, Inc.

CAE-47.

Docket# ER01-2144, 000, New England Power Pool

CAE-48.

Docket# ER01-2074, 000, Calhoun Power Company I, LLC

CAE-49.

Docket# RT01-2, 000, PJM Interconnection, L.L.C., Allegheny Electric Cooperative, Inc., Atlantic City Electric Company, Baltimore Gas & Electric Company, Delmarva Power & Light Company, Jersey Central Power & Light Company, Metropolitan Edison Company, Peco Energy Company, Pennsylvania Electric Company, PPL Electric Utilities Corporation, Potomac Electric Power Company, Public Service Electric & Gas Company and UGI Utilities Inc.

CAE-50.

Docket# RT01-98, 000, PJM Interconnection, L.L.C. and Allegheny Power

Other#s RT01-10, 000, Allegheny Power

CAE-51.

Docket# RT01-95, 000, New York Independent System Operator, Inc., Central Hudson Gas & Electric Corporation, Consolidated Edison Company of New York, Inc., Niagara Mohawk Power Corporation, New York State Electric & Gas Corporation, Orange & Rockland Utilities, Inc.; and Rochester Gas & Electric Corporation

CAE-52.

Docket# RT01-86, 000, Bangor Hydro-Electric Company, Central Maine Power Company, National Grid USA, Northeast Utilities Service Company, The United Illuminating Company, Vermont Electric Power Company and Iso New England Inc.

Other#s RT01-94, 000, Nstar Services Company

CAE-53.

Docket# RT01-77, 000, Southern Companies Services, Inc.

CAE-54.

Docket# EL01-93, 000, Mirant Americas Energy Marketing, L.P., Mirant New England, LLC, Mirant Kendall, LLC and Mirant Canal, LLC v. Iso New England Inc.

CAE-55.

Docket# RT01-99, 000, Regional Transmission Organizations

CAE-56.

Docket# RT01-100, 000, Regional Transmission Organizations

Consent Agenda—Markets, Tariffs and Rates—Gas

CAG-1.

Docket# RP01-457, 000, Northern Border Pipeline Company

CAG-2.

Docket# PR01-9, 000, Cranberry Pipeline Corporation

CAG-3.

Docket# RP00-340, 000, Gulf South Pipeline Company, LP

Other#s RP00-340, 001, Gulf South Pipeline Company, LP; RP01-7, 000, Gulf South Pipeline Company, LP

CAG-4.

Docket# RP00-458, 000, Clear Creek Storage Company, L.L.C.

CAG-5.

Docket# RP00-405, 000, Gulf States Transmission Corporation

Other#s RP00-617, 000, Gulf States Transmission Corporation; RP00-617, 001, Gulf States Transmission Corporation

CAG-6.

Docket# RP00-342, 000, Migc, Inc.

Other#s RP01-57, 000, Migc, Inc.

CAG-7.

Docket# RP95-409, 009, Northwest Pipeline Corporation

Other#s RP95-409, 010, Northwest Pipeline Corporation

CAG-8.

Omitted

CAG-9.

Omitted

CAG-10.

Omitted

CAG-11.

Docket# PR00-9, 000, Epgt Texas Pipeline, L.P.

CAG-12.

Docket# PR00-18, 000, Great Lakes Energy Partners, L.L.C.

CAG-13.

Docket# RP01-400, 001, PG&E Gas Transmission, Northwest Corporation

CAG-14.

Docket# OR99-15, 000, Wolverine Pipe Line Company

CAG-15.

Docket# RP96-389, 025, Columbia Gulf Transmission Company

CAG-16.

Docket# RP01-456, 000, Tennessee Gas Pipeline Company

Consent Agenda—Miscellaneous

CAM-1.

Omitted

Consent Agenda—Energy Projects—Hydro

CAH-1.

Omitted

CAH-2.

Omitted

CAH-3.

Docket# P-7481, 068, NYSD LTD. Partnership

CAH-4.

Docket# P-739, 012, Appalachian Power Company

Other#s P-77, 114, Pacific Gas and Electric Company; P-96, 029, Pacific Gas and Electric Company; P-175, 016, Pacific Gas and Electric Company; P-178, 013, Pacific Gas and Electric Company; P-233, 077, Pacific Gas and Electric Company; P-401, 025, Indiana Michigan Power Company; P-487, 029, PP&L, Inc.; P-606, 018, Pacific Gas and Electric Company; P-619, 091, Pacific Gas and Electric Company; P-803, 052, Pacific Gas and Electric Company; P-1025, 045, Safe Harbor Water Power Corporation; P-1061, 053, Pacific Gas and Electric Company; P-1121, 055, Pacific Gas and Electric Company; P-1175, 009, Appalachian Power Company; P-1267, 045, Greenwood County, South Carolina; P-1290, 008, Appalachian Power Company; P-1333, 035, Pacific Gas and Electric Company; P-1354, 027, Pacific Gas and Electric Company; P-1403, 040, Pacific Gas and Electric Company; P-1835, 211, Nebraska Public Power District; P-1855, 024, Usgen New England, Inc.; P-1881, 035, PP&L, Inc.; P-1892, 014, Usgen New England, Inc.; P-1904, 033, Usgen New England, Inc.; P-1962, 036, Pacific Gas and Electric Company; P-1982, 023, Northern States Power Company; P-1988, 026, Pacific Gas and Electric Company; P-2047, 013, Erie Boulevard Hydropower, L.P.; P-2056, 023, Northern States Power Company; P-2058, 017, Avista Corporation; P-2075, 015, Avista Corporation; P-2077, 018, Usgen New England, Inc.; P-2084, 028, Erie Boulevard Hydropower, L.P.; P-2105, 085, Pacific Gas and Electric Company; P-2106, 036, Pacific Gas and Electric Company; P-2107, 008, Pacific Gas and Electric Company; P-2114, 092, Public Utility District No. 2 of Grant County, Washington P-2130, 027, Pacific Gas and Electric Company; P-2155, 018, Pacific Gas and Electric Company; P-2181, 011, Northern States Power Company; P-2210, 067, Appalachian Power Company; P-2232, 426, Duke Power Company; P-2310, 115, Pacific Gas and Electric Company; P-2318, 013, Erie Boulevard Hydropower, L.P.; P-2320, 026, Erie Boulevard Hydropower, L.P.; P-2323, 092, Usgen New England, Inc.; P-2330, 044, Erie Boulevard Hydropower, L.P.; P-2331, 018, Duke Power Company; P-2332, 027, Duke Power Company; P-2376, 031, Appalachian Power Company; P-2440, 042, Northern States Power Company; P-2466, 023, Appalachian Power Company; P-2467, 014, Pacific Gas and Electric Company; P-2474, 014, Erie Boulevard Hydropower, L.P.; P-2482, 032, Erie Boulevard Hydropower, L.P.; P-2491, 027, Northern States Power Company; P-2503, 060, Duke Power Company; P-2514, 063, Appalachian Power Company; P-2538, 056, Erie Boulevard Hydropower, L.P.; P-2539, 017, Erie Boulevard Hydropower, L.P.; P-2545, 071, Avista Corporation; P-2551, 034, Indiana Michigan Power Company; P-2554, 014, Erie Boulevard Hydropower, L.P.; P-2567, 011, Northern States Power Company; P-2569, 080, Erie Boulevard Hydropower, L.P.; P-2570, 027, Ohio Power Company; P-2579, 041, Indiana Michigan Power Company; P-2616, 020, Erie Boulevard Hydropower, L.P.; P-2619, 007, Nantahala Power & Light Company; P-2639, 010, Wisconsin Electric Power Company; P-2645, 101, Erie Boulevard Hydropower, L.P.; P-2651, 014, Indiana Michigan Power Company; P-2661, 013, Pacific Gas and Electric Company; P-2669, 025, Usgen New England, Inc.; P-2670, 016, Northern States Power Company; P-2686, 025, Nantahala Power & Light Company; P-2687, 019, Pacific Gas and Electric Company; P-2692, 026, Nantahala Power & Light Company; P-2696, 015, Erie Boulevard Hydropower, L.P.; P-2697, 011, Northern States Power Company; P-2698, 026, Nantahala Power & Light Company; P-2701, 039, Erie Boulevard Hydropower, L.P.; P-2713, 057, Erie Boulevard Hydropower, L.P.; P-2735, 068, Pacific Gas and Electric Company; P-2740, 044, Duke Power Company; P-2837, 016, Erie Boulevard Hydropower, L.P.; P-4472, 021, Erie Boulevard Hydropower, L.P.; P-5984, 037, Erie Boulevard Hydropower, L.P.; P-7320, 020, Erie Boulevard Hydropower, L.P.; P-7387, 014, Erie Boulevard Hydropower, L.P.; P-11408, 032, Erie Boulevard Hydropower, L.P.

Consent Agenda—Energy Projects—Certificates

CAC-1.

Docket# CP00-129, 000, Horizon Pipeline Company, L.L.C.

Other#s CP00-130, 000, Horizon Pipeline Company, L.L.C.; CP00-131, 000, Horizon Pipeline Company, L.L.C.; CP00-132, 000, Natural Gas Pipeline Company of America

CAC-2.

Docket# CP01-92, 000, East Tennessee Natural Gas Company

CAC-3.

Docket# CP01-115, 000, Transwestern Pipeline Company

CAC-4.

Docket# CP01-154, 000, Maritimes & Northeast Pipeline, L.L.C.

CAC-5.

Omitted

CAC-6.

Docket# CP01-60, 000, Williams Gas Pipelines Central, Inc.

CAC-7.

Docket# CP99-580, 002, Southern LNG Inc.

Other#s CP99-579, 002, Southern LNG Inc.; CP99-582, 003, Southern LNG Inc.

CAC-8.

Docket# CP01-2, 000, Columbia Gas Transmission Corporation

CAC-9.

Omitted

Energy Projects—Hydro Agenda

H-1.

Reserved

Energy Projects—Certificates Agenda

C-1.

Reserved

Markets, Tariffs and Rates—Electric Agenda

E-1.

Reserved

Markets, Tariffs and Rates—Gas Agenda

G-1.

Reserved

David P. Boergers,
Secretary.

[FR Doc. 01-17167 Filed 7-5-01; 11:51 am]

BILLING CODE 6717-01-U